DEPARTMENT OF EDUCATION

[CFDA Nos. 84.047A and 84.047M]

Office of Postsecondary Education; Upward Bound Program and Upward Bound Math and Science Program; Notice Inviting Applications for New Awards for Fiscal Year (FY) 2003

Purpose of Programs: The Upward Bound Program is designed to generate in students the skills and motivation necessary for success in education beyond secondary school. The Upward Bound Math and Science Program is designed to prepare high school students for postsecondary education programs that lead to careers in the fields of math and science.

Eligible Applicants: Institutions of higher education, public and private agencies and organizations, including community and faith-based organizations, and in exceptional cases, secondary schools if there are no other applicants capable of providing an Upward Bound project in the proposed target area.

Applications Available: September 27, 2002.

Deadline for Transmittal of Applications: November 22, 2002—Upward Bound Math and Science Program; December 13, 2002—Upward Bound Program.

Deadline for Intergovernmental Review: January 21, 2003—Upward Bound Math and Science Program; February 11, 2003—Upward Bound Program.

Estimated Available Funds: $264,841,000 for the Upward Bound Program, and $31,772,000 for the Upward Bound Math and Science Program. The estimated amount of funds available for awards is based on the Administration's request for these programs for FY 2003. The actual level of funding, if any, is contingent on final congressional action. However, we are inviting applications to allow enough time to complete the grant process, if Congress appropriates funds for these programs.

Estimated Range of Awards: $200,000—690,000 for year 1 of an Upward Bound project; $200,000—300,000 for year 1 of an Upward Bound Math and Science project.

Estimated Average Size of Awards: $311,000 for the Upward Bound Program; $258,000 for the Upward Bound Math and Science Program.

Estimated Number of Awards: 772 for the Upward Bound Program; 123 for the Upward Bound Math and Science Program.

Project Period: Up to 60 months for both the Upward Bound and the Upward Bound Math and Science Programs.

Note: The Department is not bound by any estimates in this notice.

Page Limit for Upward Bound and Upward Bound Math and Science Programs: The application narrative (Part III of the application) is where you, the applicant, address the selection criteria that reviewers use to evaluate your application. You must limit Part III to the equivalent of no more than 100 pages, using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12-point or larger or no smaller than 10 pitch (characters per inch).

The page limit does not apply to Part I, the cover sheet; Part II, the budget section, including the narrative budget justification; Part IV, the assurances and certifications; or the one-page abstract, the resumes, the bibliography, or the letters of support. However, you must include all of the application narrative in Part III.

We will reject your application if—

• You apply these standards and exceed the page limit; or

• You apply other standards and exceed the equivalent of the page limit.

Applicable Regulations: (a) The Education Department General Administrative Regulations (EDGAR) in 34 CFR parts 74, 75, 77, 79, 80, 82, 85, 86, 97, 98, and 99; and (b) the regulations for these programs in 34 CFR part 645.

Priority

Invitational Priority

We are particularly interested in applications that meet the following priority.

Applications that propose projects that will serve higher risk students. The Administration is committed to making changes in programs that will improve their effectiveness. The ongoing evaluation of the Upward Bound program indicates that increasing the participation of higher risk students would increase its overall effectiveness. The evaluation has found that the majority of students served by the program are not higher risk students even though the program has a large impact on these students. Examples of higher risk students include, but are not limited to, (a) students with grade point averages in the C or D range as high school freshmen, (b) students with relatively few credits in the core academic subjects of English, math, science, social studies and foreign language, or (c) students who have the potential but do not plan to pursue a postsecondary education. Applicants should include their definitions of higher risk students and describe strategies for targeting services to higher risk students when addressing the selection criteria, particularly the need for the project, the objectives, the plan of operation and the budget.

Under 34 CFR 75.105(c)(1), we do not give an application that meets the invitational priority a competitive or absolute preference over other applications in making grant award decisions.

Applicants should be advised, however, that the Secretary intends to conduct a negotiated rulemaking process pursuant to Section 492 of the Higher Education Act with the intent of strengthening the “need for academic support” criteria used by grantees to select program participants to further focus the Upward Bound Program on serving higher risk students. This process, which will begin later this year, will be announced formally through a separate notice in the Federal Register. Applicants should be advised that regulatory changes negotiated through this process would apply to all projects funded in this competition.

For Applications Contact: Education Publications Center (ED Pubs), P.O. Box 1398, Jessup, MD 20794-1398. Telephone (toll free): 1-877-433-7827. FAX: (301) 470-1244. If you use a telecommunications device for the deaf (TDD), you may call (toll free): 1-877-576-7734.

You may also contact ED Pubs at its Web site: http://www.ed.gov/pubs/edpubs.html.

Or you may contact ED Pubs at its e-mail address: edpubs@inet.ed.gov.

If you request an application from ED Pubs, be sure to identify this competition as follows: CFDA No. 84.047A (Upward Bound) or CFDA No. 84.047M (Upward Bound Math and Science).

Technical Assistance Workshops: We will conduct 10 technical assistance workshops for these programs. At these workshops, Department of Education staff will assist prospective applicants in developing proposals and will provide budget information regarding these programs. The dates and sites for the technical assistance workshops will be posted on the TRIO Web site in September. The TRIO Web site is: http://www.ed.gov/offices/OPE/HEP/trio.

The technical assistance workshops sites are accessible to individuals with disabilities. If you will need an auxiliary aid or service to participate in the workshops (e.g., interpreting service, assistive listening device, or materials in an alternative format), notify one of the contact persons listed under FOR FURTHER INFORMATION CONTACT at least two weeks before the scheduled workshop date.

For Further Information Contact: Upward Bound Program: Sheryl Wilson or Gaby Watts, Federal TRIO Programs, U.S. Department of Education, 1990 K Street, NW., Suite 7000, Washington, DC 20006-8510. Telephone: (202) 502-7600 or via Internet: TRIO@ed.gov, Sheryl.Wilson@ed.gov, Gaby.Watts@ed.gov.

Upward Bound Math and Science Program: Geraldine Smith, Federal TRIO Programs, U.S. Department of Education, 1990 K Street, NW., Suite 7000, Washington, DC 20006-8510. Telephone: (202) 502-7600 or via Internet: TRIO@ed.gov, Geraldine.Smith@ed.gov.

If you use telecommunications device for the deaf (TDD), you may call the Federal Information Relay Service (FIRS) at 1-800-877-8339. Individuals with disabilities may obtain this document in an alternative format (e.g., Braille, large print, audiotape, or computer diskette) on request to the program contact persons listed under FOR FURTHER INFORMATION CONTACT.

Individuals with disabilities may obtain a copy of the application package in an alternative format by contacting ED Pubs. However, the Department is not able to reproduce in an alternative format the standard forms included in the application package.

Electronic Access to This Document

You may view this document, as well as all other Department of Education documents published in the Federal Register, in text or Adobe Portable Document Format (PDF) on the Internet at the following site: www.ed.gov//legislation/FedRegister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html.

Program Authority: 20 U.S.C. 1070a-11 and 20 U.S.C. 1070a-13.

Dated: September 17, 2002.
Sally L. Stroup,
Assistant Secretary, Office of Postsecondary Education.

[FR Doc. 02-24010 Filed 9-19-02; 8:45 am]

BILLING CODE 4000-01-P